DEPARTMENT OF ENERGY

Federal Energy Regulatory Commission

[Docket No. AD15-5-000]

Available Transfer Capability Standards for Wholesale Electric Transmission Services; Supplemental Notice of Workshop on Available Transfer Capability Standards

As announced in a Notice issued on December 30, 2014, the Federal Energy Regulatory Commission (Commission) staff will hold a workshop on Thursday, March 5, 2015 to discuss standards for calculating Available Transfer Capability (ATC) for wholesale electric transmission services. The workshop will be held in the Commission Meeting Room at the Federal Energy Regulatory Commission, 888 First Street NE., Washington, DC 20426. It will commence at 8:45 a.m. and conclude at 4:15 p.m. This workshop is free of charge and open to the public. Commission members may participate in the workshop.

The agenda for this workshop is attached.

Those who plan to attend the workshop are encouraged to complete the registration form located at: https://www.ferc.gov/whats-new/registration/03-05-15-form.asp. There is no registration deadline.

Those wishing to participate in the technical sessions should submit nominations no later than close of business on February 6, 2015 online at: https://www.ferc.gov/whats-new/registration/03-05-15-speaker-form.asp.

Transcripts of the workshop will be available for a fee from Ace-Federal Reporters, Inc. (202-347-3700 or 1-800-336-6646). Additionally, there will be a free Webcast of the workshop. The Webcast will allow persons to listen to the workshop but not participate. Anyone with Internet access who wants to listen to the workshop can do so by navigating to the Calendar of Events at www.ferc.gov, locating the technical workshop in the Calendar, and clicking on the Webcast link. The Capitol Connection provides technical support for the Webcast and offers the option of listening to the workshop via phone-bridge for a fee. If you have any questions, visit www.CapitolConnection.org or call 703-993-3100.

While this workshop is not convened for the purpose of discussing specific cases, the workshop may address matters that are at issue in the following pending Commission proceeding: North American Electric Reliability Corporation, Docket No. RM14-7-000.

Commission workshops are accessible under section 508 of the Rehabilitation Act of 1973. For accessibility accommodations, please send an email to accessibility@ferc.gov or call toll free 1-866-208-3372 (voice) or 202-502-8659 (TTY), or send a FAX to 202-208-2106 with the required accommodations.

For further information on this workshop, please contact:

Logistical Information

Sarah McKinley, Office of External Affairs, Federal Energy Regulatory Commission, 888 First Street NE., Washington, DC 20426, (202) 502-8368, sarah.mckinley@ferc.gov.

Technical Information

Christopher Young, Office of Energy Policy and Innovation, Federal Energy Regulatory Commission, 888 First Street NE., Washington, DC 20426, (202) 502-6403, christopher.young@ferc.gov.

Legal Information

Richard Wartchow, Office of the General Counsel, Federal Energy Regulatory Commission, 888 First Street NE., Washington, DC 20426, (202) 502-8744 richard.wartchow@ferc.gov.

Dated: January 30, 2015.
Kimberly D. Bose,
Secretary.

Available Transfer Capability Standards for Wholesale Electric Transmission Services

Staff-Led Workshop

Docket No.: AD15-5-000; March 5, 2015; Agenda

This workshop is being convened to discuss actions the Commission could take to ensure that transmission providers continue to calculate and post available transfer capability (ATC) in a manner that ensures nondiscriminatory access to wholesale electric transmission services. This workshop is prompted by the filing by the North American Electric Reliability Corporation (NERC) proposing changes to its ATC-related reliability standards,¹ and the initiative to replace some of these standards with similarly focused business practice standards to be developed by the North American Energy Standards Board (NAESB).²

¹ NERC's proposal is currently pending before the Commission in the rulemaking: Modeling, Data, and Analysis Reliability Standards, Notice of Proposed Rulemaking, Docket No. RM14-7-000; 79 FR 36,269 (June 26, 2014).

² See, e.g., the December 18, 2014 status report filed by NAESB in Docket Nos. RM05-5-000 and RM14-7-000.

The workshop will address the consistent calculation and transparency of ATC to ensure continued access to the grid by transmission customers on a nondiscriminatory basis, as articulated in Order No. 890 and other Commission orders.³ In Order No. 890, the Commission required public utilities to work through NERC to develop consistent methodologies for ATC calculation.⁴ In Order No. 693,⁵ the Commission approved several reliability standards related to ATC while also directing NERC to prospectively modify them.⁶ In Order No. 729, the Commission approved six reliability standards that address ATC, making them mandatory and enforceable; concurrently the Commission issued Order No. 676-E, which incorporated by reference in its regulations certain related business practice standards adopted by the Wholesale Electric Quadrant of NAESB.⁷ Subsequently, NERC has proposed to retire six standards and replace them with a single modified standard focused on reliability issues.⁸ At the workshop, Commission staff will seek input on the appropriate mechanisms to ensure the continued transparency and consistency of ATC calculation methodologies, and posting of ATC on OASIS.

³ See, e.g.; Preventing Undue Discrimination and Preference in Transmission Service, Order No. 890, FERC Stats. & Regs. ¶ 31,241, at P 68, order on reh'g, Order No. 890-A, FERC Stats. & Regs. ¶ 31,261 (2007), order on reh'g, Order No. 890-B, 123 FERC ¶ 61,299 (2008), order on reh'g, Order No. 890-C, 126 FERC ¶ 61,228, order on clarification, Order No. 890-D, 129 FERC ¶ 61,126 (2009); Mandatory Reliability Standards for the Calculation of Available Transfer Capability, Capacity Benefit Margins, Transmission Reliability Margins, Total Transfer Capability, and Existing Transmission Commitments and Mandatory Reliability Standards for the Bulk-Power System, Order No. 729, 129 FERC ¶ 61,155 (2009), order on clarification, Order No. 729-A, 131 FERC ¶ 61,109 (2010), order on reh'g, Order No. 729-B, 132 FERC ¶ 61,027 (2010); et al.

⁴ See Order No. 890 (supra) P 2, P 193-196, etc.

⁵ Mandatory Reliability Standards for the Bulk-Power System, Order No. 693, 72 FR 16416 (Apr. 4, 2007), FERC Stats. & Regs. ¶ 31,242, at P 1022 (2007), order on reh'g, Order No. 693-A, 120 FERC ¶ 61,053 (2007), P 1013.

⁶ See Order No. 693 (supra).

⁷ 129 FERC ¶ 61,162

⁸ Modeling, Data, and Analysis Reliability Standards, Notice of Proposed Rulemaking, 147 FERC ¶ 61,208 (2014).

8:45 a.m.-9:00 a.m. Welcome and Opening Remarks

9:00 a.m.-10:30 a.m. Session 1: Overview and Context of ATC Determination and Posting

Session 1 will explore the role of consistent and transparent ATC determination and posting in ensuring open access to the interstate transmission system. The goal of the session will be to understand the types of high-level decisions that need to be made to develop ATC standards and discuss the proper venue for making those high-level decisions. Participants should address, among other things: (1) The extent to which the currently-effective standards have proven effective for meeting the needs of the industry and the Commission, (2) in general, whether the ATC information currently available to transmission customers is sufficient and sufficiently transparent, (3) the appropriate level of detail or specificity necessary for any rules or standards to ensure transparency and consistency and the elimination of transmission provider discretion in this highly technical topic area, and (4) the appropriate administrative mechanism or form of any rules needed to continue to achieve these goals. Participants may also be asked to discuss how to distinguish reliability concerns from requirements necessary to maintain the open access assurances required in Order Nos. 890 and 729. Further, participants may be asked to discuss the appropriate forum for identifying any gaps or areas of ambiguity in Order Nos. 890 and 729 that should be clarified with respect to ATC. Finally, considering that accurate ATC determination is important to the ultimate assurance of consistency and transparency and to minimize the discretion of transmission providers in calculating ATC, the session may address which aspects of any rules addressing ATC, such as requirements regarding calculations, data inputs or frequency of updates, among other possible examples, are most important for the Commission to consider.

10:30 a.m.-10:45 a.m. Break

10:45 a.m.-12:15 p.m. Session 2: Specific ATC Topics and Requirements

Session 2 will address specific details of ATC, its constituent parts, and related concepts and the degree to which the Commission should include in the pro forma OATT or the Commission's regulations requirements addressing these details. For example, staff may seek information about the level of detail required in the “ATC Implementation Document” (ATCID) to ensure transparency, the relationship between a transmission provider's planning of operations and the calculation of Total Transfer Capability (TTC) or ATC for the same time periods, and the computation and use of Capacity Benefit Margin and Transmission Reliability Margin. Possible discussion items could also include the determination of TTC and Existing Transmission Commitments (ETC), the requirements in the three existing “methodology” standards (Area Interchange Methodology, Rated System Path Methodology, and Flowgate Methodology) that establish a basis for determining the TTC and ETC components of ATC, the interrelationship between the NERC “MOD A” standards and other reliability standards, NAESB business practice standards, and the Commission's regulations and the possible need for information sharing between and among transmission providers and other entities. For each of the discussion items, participants may be asked to indicate whether formal Commission guidance, in the form of pro forma OATT requirements or new regulations would help to ensure that goals of Order Nos. 890 and 729 are met.

12:15 p.m.-1:15 p.m. Lunch

1:15 p.m.-2:15 p.m. Session 2, Continued

2:15 p.m.-2:30 p.m. Break

2:30 p.m.-4:00 p.m. Session 3: Lessons Learned and Opportunities for Improvement

Session 3, in light of NERC's proposal and NAESB efforts to revise standards for ATC calculations and transparency, will explore what types of changes, if any, need to be taken by NERC, NAESB and/or the Commission to ensure that transmission providers continue to calculate and post ATC in a manner that ensures nondiscriminatory access to wholesale electric transmission services. This session will synthesize the discussion from the first two sessions to explore whether there are changes needed, and the level of detail or guidance needed, in the Commission's regulations or the pro forma Open Access Transmission Tariff. Time permitting, there may be a discussion of whether there are opportunities to apply industry's experience to date, including potential areas for improvement that could enhance the consistency of the three existing calculation methods, and whether the rules addressing ATC could be made more efficient, clear or easier to comply with than they currently are, without compromising open access.

4:00 p.m.-4:15 p.m. Closing

[FR Doc. 2015-02293 Filed 2-4-15; 8:45 a.m.]

BILLING CODE 6717-01-P